DEPARTMENT OF ENERGY

Federal Energy Regulatory Commission

[Docket No. ER23-2171-000]

Tri-State Generation and Transmission Association, Inc.; Notice of Conference Call

On Friday, October 20, 2023, Commission staff will hold a conference call with Tri-State Generation and Transmission Association, Inc. (Tri-State) beginning at 10:00 a.m. (Eastern Time). The purpose of the conference call is to clarify the following statements made by Tri-State in the June 16, 2023 transmittal letter to its formula rate filing in Docket No. ER23-2171-000: “Given that an order on the Initial Decision has not yet issued, Tri-State is filing this rate to be consistent with its prior rates and cooperative principles. This filing will be adjusted accordingly in the event of a future Commission order that includes a conflicting directive.” ¹ The discussion during the conference call will be limited solely to whether Tri-State intends to submit an amended filing as referenced in these statements.

¹ Tri-State Transmittal at 6.

All interested parties are invited to listen by phone. The conference call will not be webcasted or transcribed. However, an audio listen-only line will be provided. Those wishing to access the listen-only line must email Sean Pauley at sean.pauley@ferc.gov by 5:00 p.m. (Eastern Time) on Thursday October 19, 2023, with your name, email, and phone number, in order to receive the call-in information before the conference call. Please use the following text for the subject line, “ER23-2171-000 listen-only line registration.”

Commission conferences are accessible under section 508 of the Rehabilitation Act of 1973. For accessibility accommodations, please send an email to accessibility@ferc.gov or call toll free 1 (866) 208-3372 (voice) or (202) 208-1659 (TTY), or send a FAX to (202) 208-2106 with the required accommodations.

For additional information, please contact Sean Pauley at (202) 502-6766 or sean.pauley@ferc.gov.

Dated: October 13, 2023.
Kimberly D. Bose,
Secretary.

[FR Doc. 2023-23104 Filed 10-18-23; 8:45 am]

BILLING CODE 6717-01-P